DEPARTMENT OF DEFENSE

Department of the Army; Corps of Engineers

Intent To Prepare a Draft Environmental Impact Statement (DEIS) for Proposed Cape Wind Energy Project, Nantucket Sound and Yarmouth, MA Application for Corps Section 10/404 Individual Permit

AGENCY: U.S. Army Corps of Engineers, DoD.

ACTION: Notice of intent.

SUMMARY: The New England District, Corps of Engineers, has received an application from Cape Wind Associates, LLC for a Section 10/404 Individual Permit for the installation and operation of 170 offshore Wind Turbine Generators (WTGs) in federal waters off the coast of Massachusetts on Horseshoe Shoal in Nantucket Sound, with the transmission lines going through Massachusetts state waters. The Corps has determined that an EIS is required for this proposed project, currently the first proposal of its kind in the United States. The applicant's stated purpose of the project is to generate up to 420 MW of renewable energy that will be distributed to the New England regional power grid, including Cape Code and the islands of Martha's Vineyard and Nantucket. The power will be transmitted to shore via a submarine cable system consisting of two 115kV lines to a landfall site in Yarmouth, Massachusetts. The submarine cable system will then interconnect with an underground cable system, where it will interconnect with an existing NSTAR 115kV electric transmission line for distribution.

FOR FURTHER INFORMATION CONTACT: Questions about the proposed action and DEIS can be answered by Mr. Brian Valiton, Regulatory Division, U.S. Army Corps of Engineers, 696 Virginia Road, Concord, Massachusetts 01742-2751, Telephone No. (978) 318-8166, or by e-mail at Brian.e.valiton@usace.army.mil.

SUPPLEMENTARY INFORMATION: The proposed wind turbine array would occupy approximately 28 square miles in an area of Nantucket Sound known as Horseshoe Shoals between Nantucket Island and the Cape Cod mainland. The northernmost turbines would be approximately 4.1 miles from the nearest land mass (Point Gammon), the southeastern most turbines would be approximately 11 miles from Nantucket, and the westernmost turbines will be approximately 5.5 miles from Martha's Vineyard. The array of generators was established in a northwest to southeast alignment to provide optimum utilization of the wind energy potential. The proposed submarine cable landfall location if Yarmouth, Massachusetts. Each wind power generating structure would generate up to 2.7 megawatts of electricity and would be up to 420 feet above the water surface. The proposed submarine cable system, consisting of two 115kV solid dielectric cable circuits, would be jet-plow embedded into the seabed to a depth of approximately 6 feet. The foundations of the WTGs may require scour protection. Scour protection would require the placement of stone riprap or concrete matting on the seabed surface surrounding the foundation. The overland cable system would be installed underground within existing public rights-of-way and roadways in the town of Yarmouth, Massachusetts, ultimately connecting to an existing 115kV electric transmission line for distribution. The approximate construction start date for the proposed project is 2004, with commercial operation starting in 2005.

Alternatives to be addressed in the EIS will include: the no action alternative; alternative wind park locations, including offshore vs. upland; submarine cable route alternatives; alternative landfall and overland cable route locations, and alternative connections to an NSTAR transmission line.

Significant issues to be analyzed in depth in the EIS will include impacts associated with construction, operation, maintenance and decommissioning of the wind turbines on the following resources: recreational and commercial boating and fishing activities, endangered marine mammals and reptiles, birds, aviation, benthic habitat, aesthetics, cultural resources, radio and television frequencies, ocean currents, and land resources.

Other Environmental Review and Consultation Requirements: To the fullest extent possible, the EIS will be integrated with analyses and consultation required by the Endangered Species Act of 1973, as amended (Pub. L. 93-205; 16 U.S.C. 1531, et seq.); the Magnuson-Stevens Fishery Conservation and Management Act, as amended (Pub. L. 94-265; 16 U.S.C. 1801, et seq.), the National Historic Preservation Act of 1966, as amended (Pub. L. 89-655; 16 U.S.C. 470, et seq.); the Fish and Wildlife Coordination Act of 1958, as amended (Pub. L. 85-624; 16 U.S.C. 661, et seq.); the Coastal Zone Management Act of 1972, as amended (Pub. L. 92-583; 16 U.S.C. 1451, et seq.); and the Clean Water Act of 1977, as amended (Pub. L. 92-500; 33 U.S.C. 1251, et seq.), Section 10 of the Rivers and Harbors Act of 1899, 33 U.S.C. 403 et seq.); the Outer Continental Shelf Lands Act (Pub. L. 95-372; 43 U.S.C. 1333(e)), and applicable and appropriate Executive Orders. Additionally, this EIS will be prepared concurrently with the requirements of the Massachusetts Environmental Policy Act (301 CMR 11.00 et seq.).

Scoping: The Corps will conduct an open scoping and public involvement process during the development of the EIS. The purpose of the scoping meetings is to assist the Corps in defining the issues that will be evaluated in the EIS. Scoping meetings will be held on March 6, 2002 starting at 1:30 pm at the JFK Federal Building, 55 New Sudbury St., Conference Room C, Boston, Massachusetts, and on March 7, 2002 starting at 6:30 pm at the Mattacheese Middle School, 400 Higgins Crowell Rd., West Yarmouth, Massachusetts. All interested Federal, State and local agencies, affected Indian tribes, interested private and public organizations, and individuals are invited to attend these scoping meetings.

The Draft EIS is anticipated to be available for public review in the summer of 2003.

Brian E. Osterndorf,
Col, En, Commander.

[FR Doc. 02-2217 Filed 1-29-02; 8:45 am]

BILLING CODE 3710-24-M